DEPARTMENT OF TRANSPORTATION

Federal Transit Administration

Exempt Discretionary Program Grants (Section 5309) for Urban Circulator Systems

AGENCY: Federal Transit Administration (FTA), DOT.

ACTION: Urban Circulator Systems Announcement of Project Selections.

SUMMARY: The U.S. Department of Transportation's (DOT) Federal Transit Administration (FTA) announces the selection of projects funded with unallocated Section 5309 discretionary program funds for the Urban Circulator program in support of DOT's Livability Initiative, which was announced in the Urban Circulator Systems Program notice of funding availability on December 8, 2009. The Urban Circulator program makes funds available to assist State and local governmental authorities in constructing new fixed guideway and corridor-based bus capital projects including the acquisition of real property, the initial acquisition of rolling stock for the systems, the acquisition of rights-of-way, and relocation. Through the Urban Circulator Program grants, FTA will invest in five projects that provide a transportation option that connects urban destinations and fosters the redevelopment of urban spaces into walkable mixed use, high density environments.

FOR FURTHER INFORMATION CONTACT: Successful applicants should contact the appropriate FTA Regional office (Appendix A) for specific information regarding applying for the funds. For general program information on the Urban Circulator program, contact Sherry Riklin, Office of Planning and Environment, at (202) 366-2053, e-mail: Sherry.Riklin@dot.gov.

SUPPLEMENTARY INFORMATION: A total of $130,000,000 was available for FTA's Urban Circulator Systems Program. A total of 65 applicants requested $1.1 billion, resulting in high competition for funds. Project proposals were evaluated based on the criteria detailed in the December 8, 2009, Notice of Funding Availability. The projects selected and shown in Table 1 will provide mobility choices, improve economic competitiveness, support existing communities, create partnerships and enhance the value of communities and neighborhoods.

Grantees selected for competitive discretionary funding should work with their FTA regional office to secure FTA approval to advance the project through project development. FTA's approval to advance the Urban Circulator projects through project development and grant award is based on compliance with planning, environmental, and project management requirements which apply to all Federal-aid transit projects, including inclusion of the project in a financially constrained metropolitan long-range transportation plan and metropolitan/state transportation improvement program (TIP/STIP) and completion of the appropriate environmental review required by the National Environmental Policy Act (NEPA). Funds will be obligated to selected projects after a determination by FTA that the grantee has the technical, legal, and financial capacity to construct the proposed project consistent with Federal Transit Law at 49 U.S.C. Chapter 53. The grantee must comply with all applicable Federal statutes, regulations, executive orders, FTA circulars, and other Federal administrative requirements in carrying out the project supported by the FTA grant. A discretionary project identification number has been assigned to each project for tracking purposes and must be used in the TEAM application.

These grants will be administered and managed by the FTA regional offices. With the issuance of this Federal Register notice, FTA extends pre-award authority for acquisition of real property, utility relocation, demolition, construction, equipment, construction materials, and procurement of vehicles upon completion of the NEPA process. The NEPA process is complete when FTA issues an environmental Record of Decision (ROD), a Finding of No Significant Impact (FONSI), or makes a Categorical Exclusion (CE) determination. Selectees are encouraged to advance the project expeditiously with a goal of having the funds obligated within eighteen months of this announcement and no later than September 30, 2012, when these allocated funds will lapse. A discretionary project identification number has been assigned to each project for tracking purposes and must be used in the TEAM application. Pre-award authority is granted as of July 8, 2010.

Post-award reporting requirements include submission of the Financial Federal Report and Milestone reports in TEAM as appropriate (see FTA.C.5010.1D). Recipients of exempt discretionary grants for urban circulators shall be required to submit information that describes the impact of the urban circulator on transit ridership and economic development after two years of operation.

Issued in Washington, DC, this 28th day of February, 2011.
Peter Rogoff,
Administrator.

Table I—Urban Circulator Project Selections
Project/sponsor | Project ID | Amount allocated
Chicago Central Area, Transitway: E-W Corridor BRT (Urban Circulator), Chicago Department of Transportation, Chicago Illinois | D2010-URBC-06001 | $24,650,000
St. Louis Loop Trolley Project (Urban Circulator), City of St. Louis, Missouri | D2010-URBC-07001 | 24,990,000
Charlotte Streetcar Starter Project (Urban Circulator), City of Charlotte, North Carolina | D2010-URBC-07002 | 24,990,000
Cincinnati Streetcar Project (Urban Circulator), City of Cincinnati, Ohio | D2010-URBC-07003 | 24,990,000
Olive/St. Paul Street Loop (Urban Circulator), Dallas Area Rapid Transit Authority (DART), Dallas Texas | D2010-URBC-03001 ($2,458,956) D2010-URBC-05001 ($2,441,044) | 4,900,000
Total |  | 104,520,000

Appendix A

FTA Regional and Metropolitan Offices
Mary Beth Mello, Regional Administrator, Region 1—Boston, Kendall Square, 55 Broadway, Suite 920, Cambridge, MA 02142-1093, Tel. 617-494-2055. | Robert C. Patrick, Regional Administrator, Region 6—Ft. Worth, 819 Taylor Street, Room 8A36, Ft. Worth, TX 76102, Tel. 817-978-0550.
States served: Connecticut, Maine, Massachusetts, New Hampshire, Rhode Island, and Vermont. | States served: Arkansas, Louisiana, Oklahoma, New Mexico and Texas.
Brigid Hynes-Cherin, Regional Administrator, Region 2—New York, One Bowling Green, Room 429, New York, NY 10004-1415, Tel. 212-668-2170. | Mokhtee Ahmad, Regional Administrator, Region 7—Kansas City, MO, 901 Locust Street, Room 404, Kansas City, MO 64106, Tel. 816-329-3920.
States served: New Jersey, New York | States served: Iowa, Kansas, Missouri, and Nebraska.
New York Metropolitan Office, Region 2—New York, One Bowling Green, Room 428, New York, NY 10004-1415, Tel. 212-668-2202.
Letitia Thompson, Regional Administrator, Region 3—Philadelphia, 1760 Market Street, Suite 500, Philadelphia, PA 19103-4124, Tel. 215-656-7100. | Terry Rosapep, Regional Administrator, Region 8—Denver, 12300 West Dakota Ave., Suite 310, Lakewood, CO 80228-2583, Tel. 720-963-3300.
States served: Delaware, Maryland, Pennsylvania, Virginia, West Virginia, and District of Columbia. | States served: Colorado, Montana, North Dakota, South Dakota, Utah, and, Wyoming.
Philadelphia Metropolitan Office, Region 3—Philadelphia, 1760 Market Street, Suite 500, Philadelphia, PA 19103-4124, Tel. 215-656-7070.
Washington, D.C. Metropolitan Office, 1990 K Street, NW., Room 510, Washington, DC 20006, Tel. 202-219-3562.
Yvette Taylor, Regional Administrator, Region 4—Atlanta, 230 Peachtree Street, NW Suite 800, Atlanta, GA 30303, Tel. 404-865-5600. | Leslie T. Rogers, Regional Administrator, Region 9—San Francisco, 201 Mission Street, Room 1650, San Francisco, CA 94105-1926, Tel. 415-744-3133.
States served: Alabama, Florida, Georgia, Kentucky, Mississippi, North Carolina, Puerto Rico, South Carolina, Tennessee, and the Virgin Islands. | States served: American Samoa, Arizona, California, Guam, Hawaii, Nevada, and the Northern Mariana, Islands.
| Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789. | Rick Krochalis, Regional Administrator, Region 10—Seattle, Jackson Federal Building, 915 Second Avenue, Suite 3142, Seattle, WA 98174-1002, Tel. 206-220-7954.
States served: Illinois, Indiana, Michigan, Minnesota, Ohio, and Wisconsin. | States served: Alaska, Idaho, Oregon, and Washington.
Chicago Metropolitan Office, Region 5—Chicago, 200 West Adams Street, Suite 320, Chicago, IL 60606, Tel. 312-353-2789.

[FR Doc. 2011-4873 Filed 3-3-11; 8:45 am]

BILLING CODE 4910-57-P